DEPARTMENT OF DEFENSE

Department of the Navy

Notice of Public Hearing for the Draft Environmental Impact Statement for the Laurelwood Housing Area Access, Naval Weapons Station Earle, Colts Neck, NJ

AGENCY: Department of the Navy, DoD.

ACTION: Notice.

SUMMARY: Pursuant to section (102)(2)(c) of the National Environmental Policy Act (NEPA) of 1969, and regulations implemented by the Council on Environmental Quality (40 CFR Parts 1500-1508), the Department of the Navy (Navy) has prepared and filed with the U.S. Environmental Protection Agency (EPA) a Draft Environmental Impact Statement (EIS) which evaluates the potential environmental consequences of providing access between the Laurelwood housing area at Naval Weapons Station (NWS) Earle and an adjacent state primary or secondary road. The requirement for this access is a stipulation within the lease agreement between the Navy and the developer of Laurelwood that requires the Navy to provide unimpeded access to the property in 2010. This developer may construct necessary road improvements to obtain access and rent any housing units to the general public through the year 2040. A Notice of Intent for this EIS was published in the Federal Register on November 9, 2007 (72 FR 63562).

The Navy will conduct a public hearing to receive oral and written comments on the Draft EIS. Federal agencies, state agencies, local agencies, and interested individuals are invited to be present or represented at the public hearings. This notice announces the date and location of the public hearing for this Draft EIS.

DATES AND ADDRESSES: One public hearing will be held. The hearing will be preceded by an open house session to allow interested individuals to review information presented in the Draft EIS. Navy representatives will be available during the open house session to clarify information related to the Draft EIS. The open house session will occur from 4 p.m. to 5:30 p.m. followed by the formal public hearing from 6 p.m. to 10 p.m. The public hearing is scheduled for the following date and location: Tuesday, December 16, 2008 at the Monmouth Regional High School Performing Arts Center, One Norman J. Field Way, Tinton Falls, NJ 07724.

FOR FURTHER INFORMATION CONTACT: Naval Facilities Engineering Command (NAVFAC) Atlantic, Attn: Laurelwood Housing Area EIS Project Manager, Code EV21 Laurelwood PM, 6506 Hampton Boulevard, LRA Building A, Norfolk, VA 23508; http://www.laurelwoodeis.com.

SUPPLEMENTARY INFORMATION: The purpose of the proposed action is to provide unimpeded access in the year 2010 to the developer of the Laurelwood housing area across a portion of NWS Earle connecting the Laurelwood housing area with a state primary or secondary road. The requirement for this access in 2010 is part of an existing lease agreement between the Navy and the developer of Laurelwood.

In 1988 the Navy contracted with a developer to construct, own, and operate 300 military family housing units at NWS Earle, now known as the Laurelwood housing area. A 52-year lease agreement for the underlying land was executed between the Navy and the developer which included an in-lease and out-lease period. During the in-lease period, which runs from 1988 until 2010, the Navy guarantees rent payments to the developer for the occupancy of all 300 Laurelwood units. Only military and their dependents are allowed to occupy these housing units during the in-lease period. During the out-lease period, which runs from 2010 until 2040 the developer may rent the units to the general public.

However, the lease requires that the Navy provide “reasonable access” between the Laurelwood housing area and an adjacent state, primary, or secondary road. The lease agreement defines reasonable access as being on a paved road, constructed, operated, and maintained by the developer at its own cost. The Navy may satisfy this obligation by either (a) providing unimpeded access along existing roads of the installation or (b) providing an easement for alternate access adequate to allow the developer to construct a road from an adjacent primary or secondary road to Laurelwood that will provide unimpeded access.

Road construction would be subject to federal, state and local laws and regulations. While the developer must pay for construction of a new road and necessary improvements, the Navy is required to finance the construction of any road enhancements necessary to meet their security or operational requirements (e.g., security fencing, gates). In addition, the Navy is required to obtain all necessary permits for road construction. In 2040, the lease agreement expires and the developer is obligated to demolish the 300 housing units.

This Draft EIS reviews and assesses four action alternatives and the No Action alternative. The Draft EIS addresses potential environmental impacts on multiple resources, including but not limited to: Socioeconomic resources; community facilities and services; traffic; cultural resources; biological resources; environmental health and safety; and security. A preferred alternative has not been selected or identified in the Draft EIS. The Navy seeks comments from the public or interested parties regarding the sufficiency of the Draft EIS and the choice of alternatives.

The Draft EIS has been distributed to various Federal, state, and local agencies, as well as other interested individuals and organizations. The public comment period will end on January 12, 2009. Copies of the Draft EIS are available for public review at the following libraries: Monmouth County Library (Eastern Branch), 1001 Route 35, Shrewsbury, NJ; Monmouth County Library (Colts Neck), 1 Winthrop Drive, Colts Neck, NJ; and Tinton Falls Public Library, 664 Tinton Avenue, Tinton Falls, NJ. An electronic copy of the Draft EIS is also available for public viewing at: http://www.laurelwoodeis.com.

Federal, state, and local agencies, as well as interested parties are invited and encouraged to be present or represented at the public hearing. Oral statements will be heard and transcribed by a stenographer; however, to ensure the accuracy of the record, all statements should be submitted in writing. All statements, both oral and written, will become part of the public record on the Draft EIS and will be responded to in the Final EIS. Equal weight will be given to both oral and written statements. You do not need to attend the public hearing in order for your comments to be considered in the Final EIS.

In the interest of available time, and to ensure all who wish to give an oral statement have the opportunity to do so, each speaker's comments will be limited to three (3) minutes. If a longer statement is to be presented, it should be summarized at the public hearing and the full text submitted in writing either at the hearing, or mailed to Naval Facilities Engineering Command (NAVFAC) Atlantic, Attn: Laurelwood Housing Area EIS Project Manager, Code EV21 Laurelwood PM, 6506 Hampton Boulevard, LRA Building A, Norfolk, VA 23508. Comments can also be submitted via the project Web site: http://www.laurelwoodeis.com.

All written comments postmarked or submitted to the project website by January 12, 2009, will become a part of the official public record and will be responded to in the Final EIS.

Dated: November 14, 2008.
T. M. Cruz,
Lieutenant Commander, Judge Advocate General's Corps, U.S. Navy, Federal Register Liaison Officer.

[FR Doc. E8-28327 Filed 11-26-08; 8:45 am]

BILLING CODE 3810-FF-P